DEPARTMENT OF DEFENSE

Department of the Air Force

Acceptance of Group Application Under Public Law and Department of Defense Directive

AGENCY: Department of the Air Force, DoD Civilian/Military Service Review Board, DoD.

ACTION: Notice.

Under the provisions of Section 401, Public Law 95-202 and DoD Directive 100.20, the Department of Defense Civilian/Military Service Review Board has accepted an application on behalf of a group known as “Department of the Navy (DON) Civilian Special Agents who Served in Direct Support and Under Control of the DON within the Republic of Vietnam During the Period January 9, 1962 through May 7, 1975 (Vietnam War).” Persons with information or documentation pertinent to the determination of whether service of this group should be considered active military service to the Armed Forces of the United States are encouraged to submit such information or documentation within 60 days to the DoD Civilian/Military Service Review Board (DoD C/MSRB), 1500 West Perimeter Road, Suite 3700, Joint Base Andrews NAF, MD 20762-7002.

FOR FURTHER INFORMATION CONTACT: Mr. Thomas R. Uiselt, Deputy Executive Secretary, DoD C/MSRB, at 240-612-5409, thomas.r.uiselt.civ@mail.mil. Copies of documents or other materials submitted cannot be returned.

Henry Williams,
Acting Air Force Federal Register Liaison Officer.

[FR Doc. 2018-01308 Filed 1-25-18; 8:45 am]

BILLING CODE 5001-10-P